DEPARTMENT OF TRANSPORTATION

Federal Transit Administration

49 CFR Part 604

[Docket No. FTA-2005-22657]

RIN 2132-AA85

Charter Service

AGENCY: Federal Transit Administration (FTA), DOT.

ACTION: Notice of additional committee members notice of and meeting dates and times.

SUMMARY: This notice lists the additional committee members as nominated by the Charter Bus Negotiated Rulemaking Advisory Committee (CBNRAC) and approved by the Deputy Administrator of the Federal Transit Administration (FTA). This notice also includes new meeting dates and times.

DATES: Effective Date: June 6, 2006. See supplementary information section for dates of future meetings.

FOR FURTHER INFORMATION CONTACT: Elizabeth Martineau, Attorney-Advisor, Office of the Chief Counsel, Federal Transit Administration, 202-366-1936 (elizabeth.martineau@dot.gov). Her mailing address at the Federal Transit Administration is 400 Seventh Street, SW., Room 9316, Washington, DC 20590.

SUPPLEMENTARY INFORMATION:

New Members

April 10, 2006, FTA published a final notice establishing the Charter Bus Negotiated Rulemaking Advisory Committee (CBNRAC) (71 FR 18056). The CBNRAC held its first meeting in Washington, DC on May 8 and 9. During those meetings, the members of the CBNRAC nominated four additional members for inclusion on the CBNRAC. Those individuals are:

(1) Michael Waters, Vice President and General Manager, Coach USA;

(2) Dale Moser, Chief Operating Officer, Coach America;

(3) Richard Ruddell, President and Executive Director, Fort Worth Transportation Authority;

(4) Sandy Dragoo, Executive Director, Capital Area Transportation Authority.

The Deputy Administrator considered these names, and, on May 26, 2006, approved the inclusion of these individuals on the CBNRAC.

Schedule of Meetings

As mentioned above, the first meetings of the CBNRAC occurred on May 8 and 9 in Washington, DC. During those meetings, the Committee agreed on the following schedule for future meetings:

June 19 from 9 a.m. to 4:30 p.m.

June 20 from 8:30 a.m. to 4 p.m.

July 17 from 9 a.m. to 4:30 p.m.

July 18 from 8:30 a.m. to 4 p.m.

September 12 from 9 a.m. to 4:30 p.m.

September 13 from 8:30 a.m. to 4 p.m.

October 25 from 9 a.m. to 4:30 p.m.

October 26 from 8:30 a.m. to 4 p.m.

December 6 from 9 a.m. to 4:30 p.m.

December 7 from 8:30 a.m. to 4 p.m.

All of the above meetings will be held in room 2301 at 400 Seventh Street, SW., Washington, DC. Any changes in dates, times, or location, will be announced in a Federal Register notice in advance of the next meeting.

Issued this 31st day of May, 2006, in Washington, DC.
Sandra K. Bushue,
Deputy Administrator.

[FR Doc. 06-5133 Filed 6-5-06; 8:45 am]

BILLING CODE 4910-57-M